DEPARTMENT OF ENERGY

Federal Energy Regulatory Commission

[Project No. 2413-103]

Georgia Power Company; Notice of Application for Amendment of License Soliciting Comments, Motions To Intervene, and Protests

August 26, 2008.

Take notice that the following hydroelectric application has been filed with the Commission and is available for public inspection:

a. Application Type: Non-Project Use of Project Lands and Waters.

b. Project No.: 2413-103.

c. Date Filed: May 12, 2008, and supplemented on July 28, 2008.

d. Applicant: Georgia Power Company.

e. Name of Project: Wallace Dam Project.

f. Location: The proposal would be located less than two miles south of the Georgia Highway 44 crossing of Richland Creek, on Lake Oconee, in Greene County, Georgia.

g. Filed Pursuant to: Federal Power Act, 16 U.S.C. 791a-825r.

h. Applicant Contact: Mr. Lee Glenn, Lake Resources Manager, 125 Wallace Dam Road, NE., Eatonton, GA 31024, (706) 485-8704.

i. FERC Contact: Isis Johnson, Telephone (202) 502-6346, and e-mail: Isis.Johnson@ferc.gov.

j. Deadline for filing comments, motions to intervene, and protests: September 26, 2008.

All documents (original and eight copies) should be filed with: Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency. A copy of any motion to intervene must also be served upon each representative of the Applicant specified in the particular application.

k. Description of Request: Georgia Power Company filed an application seeking Commission approval to grant permission to the Linger Longer Development Company to construct a 10-slip boat dock and an impervious walkway on Lake Oconee. The new dock would serve the residents of the Montgomery Place II subdivision. The proposed structures would be built in-place and rip-rap would be used for shoreline stabilization, if necessary. No dredging is proposed as part of this application.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-20264 Filed 9-2-08; 8:45 am]

BILLING CODE 6717-01-P